DEPARTMENT OF COMMERCE

International Trade Administration

[A-583-008]

Circular Welded Carbon Steel Pipe and Tubes From Taiwan

AGENCY: Import Administration, International Trade Administration, Department of Commerce.

ACTION: Notice of Extension of Time Limits.

SUMMARY: The Department of Commerce (the Department) is extending the time limits for the preliminary results of the 2002 - 2003 administrative review of the antidumping duty order on circular welded carbon steel pipe and tubes from Taiwan. This review covers one manufacturer/exporter of the subject merchandise to the United States, Yieh Hsing Enterprise Co., Ltd. (Yieh Hsing), and the period May 1, 2002 through April 30, 2003.

EFFECTIVE DATE: December 16, 2003.

FOR FURTHER INFORMATION CONTACT: Robert M. James at (202) 482-0649, AD/CVD Enforcement Office Eight, Import Administration, International Trade Administration, U.S. Department of Commerce, 14th Street and Constitution Avenue NW., Washington, DC 20230.

SUPPLEMENTARY INFORMATION:

Background:

On July 1, 2003, in response to a request from petitioners, Allied Tube & Conduit Corporation, IPSCO Tubulars, Inc., and Wheatland Tube Company, the Department published in the Federal Register our notice of initiation of this administrative review. See Initiation of Antidumping and Countervailing Duty Administrative Reviews and Request for Revocation in Part, 68 Fed. Reg. at 39,055. Pursuant to the time limits for administrative reviews established in section 751(a)(3)(A) of the Tariff Act of 1930, as amended (the Tariff Act), the current deadlines for this review are January 31, 2004, for the preliminary results and May 30, 2004, for the final results.

Extension of Time Limits:

Section 751(a)(3)(A) of the Tariff Act and 351.213(h) of the Department's regulations require the Department to issue the preliminary results of an antidumping administrative review within 245 days after the last day of the month in which occurs the anniversary date of the publication of the order. These same sections, however, provide that if it is not practicable to complete the review within those deadlines, the Department may extend the 245-day period to 365 days. We have determined it is not practicable for the Department to complete this review within the normal statutory time limit due to a number of significant case issues. These include, inter alia,: the sale of Yieh Hsing's pipe making facilities in their entirety during this period of review to Yieh Phui, an “affiliated” (Yieh Hsing's characterization) company; the unknown nature of any affiliations between Yieh Hsing and other entities in Taiwan engaged in the steel- or pipe-making industry, such as Yieh United Steel Company; the extent, if any, to which affiliated companies supplied hot-rolled feed stock or other raw materials to Yieh Hsing's pipe mill; and a pending request for a changed circumstances administrative review to establish Yieh Phui's entitlement to Yieh Hsing's cash deposit rate.

Because it is not practicable to complete this review within the normal statutory time limit, the Department is extending the time limits for completion of the preliminary results until May 30, 2004, in accordance with section 751(a)(3)(A) of the Tariff Act and 351.213(h)(2) of the Department's regulations. The deadline for the final results of this review will continue to be 120 days after publication of the preliminary results.

This extension is in accordance with section 751(a)(3)(A) of the Tariff Act of 1930, as amended (19 U.S.C. 1675(a)(3)(A)).

Dated: December 2, 2003.
Barbara E. Tillman,
Acting Deputy Assistant Secretary for Import Administration, Group III.

[FR Doc. 03-31019 Filed 12-15-03; 8:45 am]

BILLING CODE 3510-DS-S